POSTAL REGULATORY COMMISSION

[Docket No. N2022-2; Order No. 6268]

Service Standard Changes

AGENCY: Postal Regulatory Commission.

ACTION: Notice.

SUMMARY: The Commission is acknowledging a recently filed Postal Service request for an advisory opinion regarding planned changes to the Critical Entry Time (CET) changes for certain Periodicals. This document invites public comments on the request and addresses several related procedural steps.

DATES: Notices of intervention are due: September 14, 2022; Live WebEx Technical Conference: September 12, 2022, at 1 p.m., eastern daylight time, Virtual.

ADDRESSES: Submit notices of intervention electronically via the Commission's Filing Online system at http://www.prc.gov. Persons interested in intervening who cannot submit their views electronically should contact the person identified in the FOR FURTHER INFORMATION CONTACT: David A. Trissell, General Counsel, at 202-789-6820.

SUPPLEMENTARY INFORMATION:

Table of Contents

I. Introduction

II. Pre-Filing Issues

III. The Request

IV. Initial Administrative Actions

V. Ordering Paragraphs

I. Introduction

On September 2, 2022, the Postal Service filed a request for an advisory opinion from the Commission regarding planned changes to the Critical Entry Times (CETs) for certain Periodicals.¹ A CET is the last time of day that a mailpiece can be tendered to the Postal Service and have that day count when measuring its expected service standard.² The Postal Service plans to standardize four of the five CETs (i.e., CETs for all non-palletized) Periodicals mail by moving them to the current earliest Periodicals Mail CET of 0800 (where previously those CETs ranged from 0800-1400). Id. at 2-4. The Postal Service avers that this change would “promote simplification of mail processing operations, and hence more effective allocation and use of processing personnel and equipment.” Id. at 4-5.

¹ United States Postal Service's Request for an Advisory Opinion on Changes in the Nature of Postal Services, September 2, 2022 (Request). The Postal Service filed the instant Request at the direction of the Commission, following the Postal Service's initial presentation of these proposed changes as part of revisions to the Market Dominant Service Performance Measurement Plan. See Docket No. PI2022-3, Order Directing the Postal Service to Request an Advisory Opinion Prior to Implementing Its Proposed Change to the Critical Entry Times for Periodicals and Approving the Other Proposed Revisions to Market Dominant Service Performance Measurement Plan, July 18, 2022 (Order No. 6232).

² Request at 2. For example, when a mailpiece is tendered prior to a CET on a Monday with a two-day standard, the piece would have an expected delivery on Wednesday, and when it is tendered after the CET, it would have an expected delivery on Thursday.

The intended effective date of the Postal Service's planned changes is no earlier than 90 days after the filing of the Request. Id. at 4. The Request was filed pursuant to 39 U.S.C. 3661 and 39 CFR part 3020. Before issuing its advisory opinion, the Commission shall accord an opportunity for a formal, on-the-record hearing pursuant to 5 U.S.C. 556 and 557. 39 U.S.C. 3661(c). This Order provides information on the Postal Service's planned changes, explains and establishes the process for the on-the-record hearing, and lays out the procedural schedule to be followed in this case.

II. Pre-Filing Issues

On August 12, 2022, the Postal Service filed a notice of its intent to conduct a pre-filing conference regarding its proposed changes to CETs for certain Periodicals.³ Notice at 1.

³ Notice of Pre-Filing Conference, August 12, 2022, at 1.

On August 16, 2022, the Commission issued Order No. 6251, which established Docket No. N2022-2 to consider the Postal Service's proposed changes, notified the public concerning the Postal Service's pre-filing conference, and appointed a Public Representative.⁴ The Postal Service held its pre-filing conference virtually on August 25, 2022, from 12:30 p.m. to 1:30 p.m. eastern daylight time (EDT). See Request at 6. The Postal Service certifies that it has made a good faith effort to address concerns of interested persons about the Postal Service's proposal raised at the pre-filing conference. See id.

⁴ Notice and Order Concerning the Postal Service's Pre-Filing Conference, August 16, 2022 (Order No. 6251).

III. The Request

A. The Postal Service's Planned Changes

Currently, CETs for non-palletized Periodicals Mail range from 0800 (for Bundle Sort Required 3-Digit and Up Container) to 1400 (for No Bundle Sort Required 5-Digit/Scheme Container). Id. at 3. CETs for this mail would move to 0800. Id. Currently palletized Periodicals Mail (No Bundle Sort Required Pure Carrier Route Pallet) has a CET of 1700. Id. The CET for this mail would remain 1700. Id. Table 1 details the current and proposed CETs for Periodicals Mail.

Table 1—Current and Planned CETs for Periodicals Mail
Periodicals mail (origin and destination) | Current CET | Planned CET
Flat Sequencing System (FSS)
No Bundle Sort Required 5-Digit/Scheme Container | 1100 | 0800
Bundle Sort Required 3-Digit and Up Container | 0800 | 0800
Non-FSS
No Bundle Sort Required 5-Digit/Scheme Container | 1400 | 0800
No Bundle Sort Required Pure Carrier Route Pallet | 1700 | 1700
Bundle Sort Required 3-Digit and Up Container | 1100 | 0800
Source: Id. at 3.

B. The Postal Service's Position

The Postal Service asserts that existing CETs for Periodicals Mail: constrain its ability to effectively allocate staff and utilize available processing equipment; result in inconsistent and unreliable service due to challenges to meet applicable service standards; and result in ineffective processing operations (including non-Periodicals Mail impacted by the issues identified above). Id. at 2-4. The proposed CETs, according to the Postal Service, would promote simplification of processing operations and more effective allocation of processing personnel and equipment and be consistent with the requirement that the Postal Service maintain an integrated network for the delivery of market-dominant and competitive products since it enables more effective use of equipment and resources for both flat-shaped pieces and packages. Id. at 4-5.

Overall, according to the Postal Service, the changes are intended to align Periodicals Mail CETs with the expected arrival time of like-shaped products in order to improve service reliability for all like-shaped products. Id. at 5.

C. The Postal Service's Direct Case

The Postal Service is required to file its direct case along with the Request. See 39 CFR 3020.114. The Postal Service's direct case includes all of the prepared evidence and testimony upon which the Postal Service proposes to rely on in order to establish that its proposal accords with and conforms to the policies of title 39, United States Code. See id. The Postal Service provides the direct testimony of two witnesses and identifies a third individual to serve as its institutional witness and provide information relevant to the Postal Service's proposal that is not provided by other Postal Service witnesses. See Request at 4-7. Table 2 below details the Postal Service's direct case, organized by witness.

Table 2—Postal Service Witnesses
Witness | Topic(s) | Designation
1. Jake R. Campbell | • Description of current Periodicals Mail CETs | USPS-T-1
| • Identification of challenges with CETs
| • Impact on other like-shaped products
| • Anticipated improvements in service and reliability as a result of changing the CETs
2. Thomas J. Foti | • Description of Periodicals Mail as it pertains to proposed CET changes | USPS-T-2
| • Assessment of the impact of the proposed CET changes on Periodicals Mailers
| • Summary of mitigation strategies for such impacts
3. Sharon Owens | • Institutional witness capable of providing information relevant to the Postal Service's proposal that is not provided by other Postal Service witnesses | None filed
Source: Request at 4-7.

Additionally, the Postal Service filed four library references, three of which are available to the public and one of which is designated as non-public material.

Table 3—Postal Service Library References
Designation | Title | Sponsoring witness
USPS-LR-N2022-2-1 | Periodicals Mail Versus Flats Mail Comparison | Jake R. Campbell
USPS-LR-N2022-2-2 | Estimated Impacts to Periodicals Mail | Jake R. Campbell
USPS-LR-N2022-2-3 | Runtime Benefits of Bundle Sorting with 0800 Periodical CETs | Jake R. Campbell
USPS-LR-N2022-2-NP1 | Data Used to Calculate Runtime Benefits of Bundle Sorting with 0800 Periodical CETs | Jake R. Campbell
Note: The Postal Service filed the non-public library reference under seal (shaded in the above table), asserting it consists of commercially sensitive information, specifically granular processing information that is analogous to the same information for competitive products. See Notice of United States Postal Service of Filing of Library References and Application for Non-Public Treatment, September 2, 2022, Application of the United States Postal Service for Non-Public Treatment at 4-5.
Source: Notice of United States Postal Service of Filing of Library References and Application for Non-Public Treatment, September 2, 2022.

IV. Initial Administrative Actions

A. General Procedures

The procedural rules in 39 CFR part 3020 apply to Docket No. N2022-2. Before issuing its advisory opinion, the Commission shall accord an opportunity for a formal, on-the-record hearing pursuant to 5 U.S.C. 556 and 557. 39 U.S.C. 3661(c). The Commission will sit en banc for Docket No. N2022-2. See 39 CFR 3020.122(b). Due to the COVID-19 pandemic and the convenience of parties outside the immediate area that may wish to participate, the Commission is conducting all business, including any hearing or public meeting for Docket No. N2022-2 virtually and not in person.

B. Scope

Docket No. N2022-2 is limited in scope to the specific changes proposed by the Postal Service in its Request. See 39 CFR 3020.102(b). To the extent that participants raise alternative proposals and present reasons why those alternatives may be superior to the Postal Service's proposal, the Commission would interpret such discussion as critiquing the specific changes proposed by the Postal Service in its Request.⁵ However, the Commission would not evaluate or opine on the merits of such alternative proposals in its advisory opinion. See Order No. 2080 at 18. Pursuant to its discretion, the Commission may undertake evaluation of alternatives or other issues raised by participants in separate proceedings (such as special studies or public inquires). See 39 CFR 3020.102(b). Moreover, any interested person may petition the Commission to initiate a separate proceeding (such as a rulemaking or public inquiry) at any time. See 39 CFR 3010.201(b) (initiation of notice and comment proceedings).

⁵ See Docket No. RM2012-4, Order Adopting Amended Rules of Procedure for Nature of Service Proceedings Under 39 U.S.C. 3661, May 20, 2014, at 18 (Order No. 2080).

C. Designation of Presiding Officer

Pursuant to 39 CFR 3010.106 and 3020.122(b), the Commission appoints Commissioner Ashley E. Poling to serve as presiding officer in Docket No. N2022-2, effective immediately. In addition to the authority delegated to the presiding officer under 39 CFR 3010.106(c), the Commission expands the presiding officer's authority to allow her to propound formal discovery requests upon any party, at her discretion. The numerical limitation on interrogatories appearing in 39 CFR 3020.117(a) shall not apply to the presiding officer. The Commission also authorizes Commissioner Poling to rule on procedural issues such as motions for late acceptance and discovery-related matters such as motions to be excused from answering discovery requests. Commissioner Poling shall have authority to issue any ruling in this docket not otherwise specifically reserved to the Commission by 39 CFR 3020 and 3010.106.

D. Procedural Schedule

The Commission establishes a procedural schedule, which appears below the signature of this Order as Attachment 1. See 39 CFR 3010.151, 3020.110; see also 39 CFR part 3020 appendix A. These dates may be changed only if good cause is shown, if the Commission later determines that the Request is incomplete, if the Commission determines that the Postal Service has significantly modified the Request, or for other reasons as determined by the Commission. See 39 CFR 3020.110(b) and (c).

E. How To Access Material Filed in This Proceeding

1. Using the Commission's Website

The public portions of the Postal Service's filing are available for review on the Commission's website (http://www.prc.gov). The Postal Service's electronic filing of the Request and prepared direct evidence effectively serves the persons who participated in the pre-filing conference. See 39 CFR 3020.104. Other material filed in this proceeding will be available for review on the Commission's website, unless the information contained therein is subject to an application for non-public treatment.

2. Using Methods Other Than the Commission's Website

The Postal Service must serve hard copies of its Request and prepared direct evidence “only upon those persons who have notified the Postal Service, in writing, during the pre-filing conference(s), that they do not have access to the Commission's website.” 39 CFR 3020.104. If you demonstrate that you are unable to effectively use the Commission's Filing Online system or are unable to access the internet, then the Secretary of the Commission will serve material filed in Docket No. N2022-2 upon you via First-Class Mail. See 39 CFR 3010.127(b) and (c). You may request physical service by mailing a document demonstrating your need to the Office of Secretary and Administration, Postal Regulatory Commission, 901 New York Avenue NW, Suite 200, Washington, DC 20268-0001. Service may be delayed due to the impact of the COVID-19 pandemic. Pursuant to 39 CFR 3010.127(c), the Secretary shall maintain a service list identifying no more than two individuals designated for physical service of documents for each party intervening in this proceeding. Accordingly, each party must ensure that its listing is accurate and should promptly notify the Secretary of any errors or changes. See 39 CFR 3010.127(c).

3. Non-Public Material

The Commission's rules on how to file and access non-public material appear in 39 CFR part 3011. Each individual seeking non-public access must familiarize themselves with these provisions, including the rules governing eligibility for access; non-dissemination, use, and care of the non-public material; sanctions for violations of protective conditions; and how to terminate or amend access. See 39 CFR 3011.300, 3011.302-.304. Any person seeking access to non-public material must file a motion with the Commission containing the information required by 39 CFR 3011.301(b)(1)-(4). Each motion must attach a description of the protective conditions and a certification to comply with protective conditions executed by each person or entity (and each individual working on behalf of the person or entity) seeking access. 39 CFR 3011.301(b)(5)-(6). To facilitate compliance with 39 CFR 3011.301(b)(5)-(6), a template Protective Conditions Statement and Certification to Comply with Protective Conditions appears below the signature of this Order as Attachment 2, for completion and attachment to a motion for access. See 39 CFR part 3011 subpart C, appendix A. Persons seeking access to non-public material are advised that actual notice provided to the Postal Service pursuant to 39 CFR 3011.301(b)(4) will expedite resolution of the motion, particularly if the motion for access is uncontested by the Postal Service.

Non-public information must be redacted from filings submitted through the Commission's website; instead, non-public information must be filed under seal as required by 39 CFR part 3011 subpart B.

F. How To File Material in This Proceeding

1. Using the Commission's Filing Online System

Except as provided in 39 CFR 3010.120(a), all material filed with the Commission shall be submitted in electronic format using the Filing Online system, which is available over the internet through the Commission's website. The Commission's website accepts filings during the Commission's regular business hours, which are from 8 a.m. through 4:30 p.m. EDT, except for Saturdays, Sundays, and Federal holidays. A guide to using the Filing Online system, including how to create an account, is available at https://www.prc.gov/how-to-participate. If you have questions about how to use the Filing Online system, please contact the dockets clerk by email at dockets@prc.gov or telephone at (202) 789-6847. Please be advised that the dockets clerk can only answer procedural questions but may not provide legal advice or recommendations.

2. Using Methods Other Than the Commission's Filing Online System

Material may be filed using a method other than the Commission's website only if at least one of the following exceptions applies:

• The material cannot reasonably be converted to electronic format,

• The material contains non-public information (see 39 CFR part 3011),

• The filer is unable to effectively use the Commission's Filing Online system and the document is 10 pages or fewer, or

• The Secretary has approved an exception to the requirements to use the Commission's Filing Online system based on a showing of good cause.

39 CFR 3010.120(a).

Material subject to these exceptions may be filed by mail to the Office of Secretary and Administration, Postal Regulatory Commission, 901 New York Avenue NW, Suite 200, Washington, DC 20268-0001. Due to the agency's virtual status, posting mailed materials to the Commission's website may be delayed. Accordingly, before mailing materials, it is strongly recommended that individuals contact the dockets clerk by email at dockets@prc.gov or telephone at (202) 789-6847.

G. Technical Conference

1. Date and Purpose

A technical conference will be held live via WebEx on September 12, 2022, at 1 p.m. EDT. The technical conference is an informal, off-the-record opportunity to clarify technical issues as well as to identify and request information relevant to evaluating the Postal Service's proposed changes. See 39 CFR 3020.115(c). The technical conference will be limited to information publicly available in the Request. Any non-public information, including information in non-public library references attached to the Request, should not be raised at the technical conference. At the technical conference, the Postal Service will make available for questioning its two witnesses whose direct testimony was filed along with the Request and a third individual to serve as its institutional witness, who will provide information relevant to the Postal Service's proposal that is not provided by other Postal Service witnesses. See Request at 10; see also 39 CFR 3020.113(b)(6)-(7), 3020.115(b). The names and topics to which these three individuals are prepared to address are summarized above in section III.C., table 1, infra.

2. How To Livestream the Technical Conference

The technical conference will be broadcast to the public via livestream, which will allow the public to view and listen to the technical conference, as it is occurring and after. To view and listen to the livestream, on or after 1 p.m. EDT on September 12, 2022, an individual must click on the internet link that will be identified on the Commission's YouTube Channel, which is available at https://www.youtube.com/channel/UCbHvK-S8CJFT5yNQe4MkTiQ. Individuals do not have to register in advance to access the livestream. Please note that the livestream is a broadcast; therefore, there is a brief delay (several seconds) between the technical conference being captured on camera and being displayed to viewers of the livestream. Additionally, please note that clicking on the livestream link will not allow an individual the opportunity to question the Postal Service's three witnesses. Details on how to participate in the live WebEx (and have the opportunity to question the Postal Service's three witnesses) follow.

3. How To Participate in the Technical Conference

To participate in this live technical conference and have the opportunity to ask questions of the Postal Service's three witnesses, an individual need not formally intervene in this docket, but must register in advance as follows. Each individual seeking to participate in the live WebEx using an individual device (e.g., a desktop computer, laptop, tablet, or smart phone) must register by sending an email to Registration@prc.gov, with the subject line “N2022-2 Conference Registration” by September 8, 2022. In order to facilitate orderly public participation, this email shall provide the following information:

• your first and last name;

• your email address (to receive the WebEx link);

• the name(s) of the Postal Service witness(es) you would like to question and/or the topic(s) of your question(s); and

• your affiliation (if you are participating in your capacity as an employee, officer, or member of an entity such as a corporation, association, or government agency).

The Registration@prc.gov email address is established solely for the exchange of information relating to the logistics of registering for, and participating in, the technical conference.⁶ No information related to the substance of the Postal Service's Request shall be communicated, nor shall any information provided by participants apart from the list identified above be reviewed or considered. Only documents filed with the Commission's docket system will be considered by the Commission. Before the technical conference, the Commission will email each identified individual a WebEx link, an explanation of how to connect to the technical conference, and information regarding the schedule and procedures to be followed.

⁶ Please refer to the Commission's privacy policy which is available at https://www.prc.gov/privacy.

4. Availability of Materials and Recording

To facilitate discussion of the matters to be explored at the technical conference, the Postal Service shall, if necessary, file with the Commission any materials not already filed in Docket No. N2022-2 (such as PowerPoint presentations or Excel spreadsheets) that the Postal Service expects to present at the technical conference by September 9, 2022. Doing so will foster an orderly discussion of the matters under consideration and facilitate the ability of individuals to access these materials should technical issues arise for any participants during the live WebEx. If feasible, the recording will be available on the Commission's YouTube Channel at https://www.youtube.com/channel/UCbHvK-S8CJFT5yNQe4MkTiQ.

Participants in the WebEx, by participating, consent to such recording and posting. Information obtained during the technical conference or as a result of the technical conference is not part of the decisional record, unless admitted under the standards of 39 CFR 3010.322. See 39 CFR 3020.115(e).

The Commission reserves the right to cancel the technical conference should no parties register an intent to question the Postal Service's three witnesses.

H. How To Intervene (Become a Party to This Proceeding)

To become a party to this proceeding, a person or entity must file a notice of intervention by September 14, 2022.⁷ This filing must clearly and concisely state: the nature and extent of the intervenor's interest in the issues (including the postal services used), the intervenor's position on the proposed changes in services (to the extent known), whether or not the intervenor requests a hearing, and whether or not the intervenor intends to actively participate in the hearing. See 39 CFR 3010.142(b). Page one of this filing shall contain the name and full mailing address of no more than two persons who are to receive service, when necessary, of any documents relating to this proceeding. See id. A party may participate in discovery; file testimony and evidence; conduct written examination of witnesses; conduct limited oral cross-examination; file briefs, motions, and objections; and present argument before the Commission or the presiding officer. See id. sections 3010.142(a); 3020.122(e). An opposition to a notice of intervention is due within 3 days after the notice of intervention is filed. See id. section 3010.142(d)(2).

⁷ Neither the Public Representative nor the Postal Service must file a notice of intervention; both are automatically deemed parties to this proceeding. See 39 CFR 3010.142(a).

I. Discovery

1. Generally Applicable Discovery Procedures

Discovery requests may be propounded upon filing a notice of intervention. Discovery that is reasonably calculated to lead to admissible evidence is allowed. See 39 CFR 3020.116(a). Each party must familiarize themselves with the Commission's rules appearing in 39 CFR part 3020, including the rules for discovery in N-dockets generally and specific to interrogatories, requests for the production of documents, and requests for admissions. See 39 CFR 3020.116-3020.119. No party may propound more than a total of 25 interrogatories (including both initial and follow-up interrogatories) without prior approval by the Commission or presiding officer.⁸

⁸ See 39 CFR 3020.117(a); Order No. 2080 at 42; see also Docket No. N2021-1, Order Affirming Presiding Officer's Ruling No. N2021-1/9, May 26, 2021, at 9 (Order No. 5901).

Each answer to a discovery request is due within 7 days after the discovery request is filed.⁹ Any motion seeking to be excused from answering any discovery request is due within 3 days after the discovery request is filed. See 39 CFR 3020.105(b)(1). Any response to such motion is due within 2 days after the motion is filed. See id. section 3020.105(b)(2). The Commission expects parties to make judicious use of discovery, objections, and motions practice, and encourages parties to make every effort to confer to resolve disputes informally before bringing disputes to the Commission to resolve.

⁹ See 39 CFR 3020.117(b)(4), 3020.118(b)(1), 3020.119(b)(1). Filing an opposition to a notice of intervention shall not delay this deadline. See 39 CFR 3010.142(d)(3).

2. Discovery Deadlines for the Postal Service's Direct Case

All discovery requests regarding the Postal Service's direct case must be filed by September 29, 2022. All discovery answers by the Postal Service must be filed by October 6, 2022. The parties are urged to initiate discovery promptly, rather than to defer filing requests and answers to the end of the period established by the Commission.

J. Rebuttal Case Deadlines

A rebuttal case is any evidence and testimony offered to disprove or contradict the evidence and testimony submitted by the Postal Service. A rebuttal case does not include cross-examination of the Postal Service's witnesses or argument submitted via a brief or statement of position. Any party that intends to file a rebuttal case must file a notice confirming its intent to do so by October 7, 2022. Any rebuttal case, consisting of any testimony and all materials in support of the case, must be filed by October 12, 2022.

K. Surrebuttal Case Deadlines

A surrebuttal case is any evidence and testimony offered to disprove or contradict the evidence and testimony submitted by the rebutting party. A surrebuttal case does not include cross-examination of the rebutting party's witnesses or argument submitted via a brief or statement of position. Any party that intends to file a surrebuttal case must obtain the Commission's prior approval and must bear the burden of demonstrating exceptional circumstances that would warrant granting the motion. See 39 CFR 3020.121(b). Any motion for leave to file a surrebuttal case is due October 14, 2022. Any response to such motion is due October 17, 2022. Any surrebuttal case, consisting of any testimony and all materials in support of the case, must be filed by October 19, 2022.

L. Hearing Dates

The Commission expects that this case will require no more than 1 or 2 business days for hearing, but reserves 3 business days out of an abundance of caution and consistent with the pro forma schedule set forth in appendix A of 39 CFR part 3020. If no party files a notice of intent to file a rebuttal case by October 7, 2022, then the hearing of the Postal Service's direct case shall begin October 12, 2022, with additional days reserved on October 13, 2022, and October 14, 2022. If any party files a notice of intent to file a rebuttal case by October 7, 2022 but no surrebuttal testimony will be presented, then the hearing of the Postal Service's direct case shall begin October 19, 2022, with additional days reserved on October 20, 2022, and October 21, 2022. If any party files a notice of intent to file a rebuttal case by October 7, 2022, and the Commission approves the presentation of surrebuttal testimony, then the hearing of the Postal Service's direct case shall begin October 26, 2022, and the hearing of the surrebuttal case shall end October 28, 2022.

M. Presentation of Evidence and Testimony

Evidence and testimony shall be in writing and may be accompanied by a trial brief or legal memoranda. 39 CFR 3020.122(e)(1). Whenever possible and particularly for factual or statistical evidence, written cross-examination will be used in lieu of oral cross-examination. Id. section 3020.122(e)(2).

Oral cross-examination will be allowed to clarify written cross-examination and/or to test assumptions, conclusions, or other opinion evidence. Id. section 3020.122(e)(3). Assuming that no rebuttal case is filed, any party that intends to conduct oral cross-examination shall file a notice of intent to do so by October 6, 2022. The notice must include an estimate of the amount of time requested for each witness.

In lieu of submitting hard copy documents to the Commission as contemplated by 39 CFR 3020.122(e)(2), each party shall file a single document titled “Notice of Designations” containing a list for each witness that identifies the materials to be designated (without the responses). The filing party shall arrange its list for each witness in alphabetical order by the name of the party propounding the interrogatory followed by numerical order of the interrogatory. For example:

Designations for Witness One

ABC/USPS-T1-1

ABC/USPS-T1-3

DEF/USPS-T1-1

GHI/USPS-T1-3

JKL/USPS-T1-2

Designations for Witness Two

DEF/USPS-T2-4

GHI/USPS-T2-2

Assuming that no rebuttal case is filed, each party shall file its Notice of Designations by October 7, 2022.

Assuming that no rebuttal case is filed, on October 11, 2022, the Postal Service shall file a “Notice of Designated Materials” identifying any corrections to the testimony or designated materials for each witness sponsored by the Postal Service. Attached to that notice shall be an Adobe PDF file that contains the witness's designated written responses in alphabetical order by the name of the party propounding the interrogatory followed by numerical order of the interrogatory (with any corrections to the responses highlighted). The Postal Service shall also contemporaneously file any corrections to testimony (with those corrections highlighted).

N. Presentation of Argument

1. General Procedures

Any person that has intervened in Docket No. N2022-2 (and thereby formally became a party to this proceeding) may submit written argument by filing a brief or a statement of position; they also may request to present oral argument at the hearing. See 39 CFR 3020.123; see also 39 CFR 3010.142(a). Any person that has not intervened in Docket No. N2022-2 may submit written argument by filing a statement of position. See 39 CFR 3020.123(g); see also 39 CFR 3010.142(a).

2. Presentation of Written Argument

A brief is a written document that addresses relevant legal and evidentiary issues for the Commission to consider and must adhere to the requirements of 39 CFR 3020.123(a)-(f). A statement of position is a less formal version of a brief that describes the filer's position on the Request and the information on the existing record in support of that position. See 39 CFR 3020.123(g).

a. Briefing Deadlines

Assuming that no rebuttal case is filed, initial briefs are due October 21, 2022, and reply briefs are due October 27, 2022. If any party files a notice confirming its intent to file a rebuttal case by October 7, 2022, then the briefing schedule may be revised.

b. Deadline for Statement of Position

Any interested person, including anyone that has not filed a notice of intervention and become a party to this proceeding, may file a statement of position. See 39 CFR 3020.123(g); see also 39 CFR 3010.142(a). A statement of position is limited to the existing record and may not include any new evidentiary material. See 39 CFR 3020.123(g). Filings styled as a brief or comments, conforming with the content and timing requirements, shall be deemed statements of positions. Any statement of position is due October 21, 2022.

3. Request To Present Oral Argument

Oral argument has not historically been part of N-cases; the Commission would only grant a request to present oral argument upon an appropriate showing of need by the presenting party. See Order No. 2080 at 53. Assuming that no rebuttal case is filed, any party may file a request to present oral argument by October 11, 2022.

O. The Commission's Advisory Opinion

Unless there is a determination of good cause for extension, the Commission shall issue its advisory opinion within 90 days of the filing of the Request. See 39 CFR 3020.102(a). Therefore, absent a determination of good cause for extension, the Commission shall issue its advisory opinion in this proceeding by December 1, 2022. “The opinion shall be in writing and shall include a certification by each Commissioner agreeing with the opinion that in his [or her] judgment the opinion conforms to the policies established under [title 39, United States Code].” 39 U.S.C. 3661(c). The advisory opinion shall address the specific changes proposed by the Postal Service in the nature of postal services. See 39 CFR 3020.102(b).

P. Public Representative

Pursuant to 39 U.S.C. 3661(c), Katrina R. Martinez shall continue to serve as an officer of the Commission (Public Representative) to represent the interests of the general public in this proceeding. See Order No. 6251 at 3.

V. Ordering Paragraphs

It is ordered:

1. The procedural schedule for this proceeding is set forth below the signature of this Order.

2. Pursuant to 39 CFR 3010.106 and 3020.122(b), the Commission appoints Commissioner Ashley E. Poling to serve as presiding officer in Docket No. N2022-2, effective immediately.

3. Commissioner Poling is authorized to propound formal discovery requests upon any party, at her discretion. The numerical limitation on interrogatories appearing in 39 CFR 3020.117(a) shall not apply to the Presiding Officer.

4. Commissioner Poling is authorized to rule on procedural issues such as motions for late acceptance and discovery-related matters such as motions to be excused from answering discovery requests.

5. Commissioner Poling is authorized to make other rulings in this Docket not otherwise specifically reserved to the Commission according to 39 CFR 3020 and 3010.106.

6. Pursuant to 39 U.S.C. 3661(c), Katrina R. Martinez shall continue to serve as an officer of the Commission (Public Representative) to represent the interests of the general public in this proceeding.

7. The Secretary shall arrange for publication of this order in the Federal Register.

By the Commission.
Erica A. Barker,
Secretary.

Procedural Schedule for Docket No. N2022-2
[Established by the Commission, September 6, 2022]
Technical Conference Dates:
Deadline to Email Registration@prc.gov to Register to Participate in the Live Technical Conference via WebEx | September 8, 2022.
Filing of the Postal Service's Materials (if any) for the Technical Conference | September 9, 2022.
Technical Conference (live via WebEx) | September 12, 2022, at 1:00 p.m. Eastern Daylight Time.
Intervention Deadline:
Filing of Notice of Intervention | September 14, 2022.
Discovery Deadlines for the Postal Service's Direct Case:
Last Filing of Discovery Requests | September 29, 2022.
Filing of the Postal Service's Answers to Discovery | October 6, 2022.
Deadlines in Preparation for Hearing (assuming no rebuttal case):
Filing of Notice Confirming Intent to Oral Conduct Cross-Examination | October 6, 2022.
Filing of Notice of Designations (Parties) | October 7, 2022.
Filing of Request to Present Oral Argument | October 11, 2022.
Filing of Notices of Designated Materials (Postal Service) | October 11, 2022.
Rebuttal Case Deadlines (if applicable):
Filing of Notice Confirming Intent to File a Rebuttal Case | October 7, 2022.
Filing of Rebuttal Case | October 12, 2022.
Surrebuttal Case Deadlines (if applicable):
Filing of Motion for Leave to File Surrebuttal Case | October 14, 2022.
Filing of Response to Motion for Leave to File Surrebuttal Case | October 17, 2022.
Filing of Surrebuttal Case (if authorized) | October 19, 2022.
Hearing Dates:
Hearings (with no Rebuttal Case) | October 12 to 14, 2022.
Hearings (with Rebuttal Case, but no authorized Surrebuttal Case) | October 19 to 21, 2022.
Hearings (with Rebuttal Case and authorized Surrebuttal Case) | October 26 to 28, 2022.
Briefing Deadlines:
Filing of Initial Briefs (with no Rebuttal Case) | October 21, 2022.
Filing of Reply Briefs (with no Rebuttal Case) | October 27, 2022.
Statement of Position Deadline:
Filing of Statement of Position (with no Rebuttal Case) | October 21, 2022.
Advisory Opinion Deadline:
Filing of Advisory Opinion (absent determination of good cause for extension) | December 1, 2022.

Docket N2022-2 Template To Attach to Motion for Access to Non-Public Material Protective Conditions Statement

The Postal Service requests confidential treatment of non-public materials identified as ___ (non-confidential description of non-public materials) (hereinafter “these materials”) in Commission Docket No. N2022-2. ___ (name of participant filing motion) (hereinafter “the movant”) requests access to these materials related to Commission Docket No. N2022-2 (hereinafter “this matter”).

The movant has provided to each person seeking access to these materials:

○ This Protective Conditions Statement;

○ The Certification to Comply with Protective Conditions;

○ The Certification of Compliance with Protective Conditions and Termination of Access; and

○ The Commission's rules applicable to access to non-public materials filed in Commission proceedings (subpart C of part 3011 of the U.S. Code of Federal Regulations).

Each person (and any individual working on behalf of that person) seeking access to these materials has executed a Certification to Comply with Protective Conditions by signing in ink or by typing /s/ before his or her name in the signature block. The movant attaches the Protective Conditions Statement and the executed Certification(s) to Comply with Protective Conditions to the motion for access filed with the Commission.

The movant and each person seeking access to these materials agree to comply with the following protective conditions:

1. In accordance with 39 CFR 3011.303, the Commission may impose sanctions on any person who violates these protective conditions, the persons or entities on whose behalf the person was acting, or both.

2. In accordance with 39 CFR 3011.300(b), no person involved in competitive decision-making for any individual or entity that might gain competitive advantage from using these materials shall be granted access to these materials. Involved in competitive decision-making includes consulting on marketing or advertising strategies, pricing, product research and development, product design, or the competitive structuring and composition of bids, offers or proposals. It does not include rendering legal advice or performing other services that are not directly in furtherance of activities in competition with an individual or entity having a proprietary interest in the protected material.

3. In accordance with 39 CFR 3011.302(a), a person granted access to these materials may not disseminate these materials in whole or in part to any person not allowed access pursuant to 39 CFR 3011.300(a) (Commission and court personnel) or 3011.301 (other persons granted access by Commission order) except in compliance with:

a. Specific Commission order,

b. Subpart B of 39 CFR 3011 (procedure for filing these materials in Commission proceedings), or

c. 39 CFR 3011.305 (production of these materials in a court or other administrative proceeding).

4. In accordance with 39 CFR 3011.302(b) and (c), all persons granted access to these materials:

a. Must use these materials only related to this matter; and

b. Must protect these materials from any person not authorized to obtain access under 39 CFR 3011.300 or 3011.301 by using the same degree of care, but no less than a reasonable degree of care, to prevent the unauthorized disclosure of these materials as those persons, in the ordinary course of business, would be expected to use to protect their own proprietary material or trade secrets and other internal, confidential, commercially sensitive, and privileged information.

5. The duties of each person granted access to these materials apply to all:

a. Disclosures or duplications of these materials in writing, orally, electronically, or otherwise, by any means, format, or medium;

b. Excerpts from, parts of, or the entirety of these materials;

c. Written materials that quote or contain these materials; and

d. Revised, amended, or supplemental versions of these materials.

6. All copies of these materials will be clearly marked as “Confidential” and bear the name of the person granted access.

7. Immediately after access has terminated pursuant to 39 CFR 3011.304(a)(1), each person (and any individual working on behalf of that person) who has obtained a copy of these materials must execute the Certification of Compliance with Protective Conditions and Termination of Access. In compliance with 39 CFR 3011.304(a)(2), the movant will attach the executed Certification(s) of Compliance with Protective Conditions and Termination of Access to the notice of termination of access filed with the Commission.

8. Each person granted access to these materials consents to these or such other conditions as the Commission may approve.

Respectfully submitted,

/s/______

(signature of representative)

(print name of representative)

(address line 1 of representative)

(address line 2 of representative)

(telephone number of representative)

(email address of representative)

(choose the appropriate response)

Attorney/Non-Attorney Representative for (name of the movant)

You may delete the instructional text to complete this form. This form may be filed as an attachment to the motion for access to non-public materials under 39 CFR 3011.301(b)(5).

Certification To Comply With Protective Conditions

The Postal Service requests confidential treatment of non-public materials identified as ___ (non-confidential description of non-public materials) (hereinafter “these materials”) filed in Commission Docket No. N2022-2.

___ (name of participant filing motion) requests that the Commission grant me access to these materials to use related to Docket No. N2022-2 (hereinafter “this matter”).

I certify that:

○ I have read and understand the Protective Conditions Statement and this Certification to Comply with Protective Conditions;

○ I am eligible to receive access to these materials because I am not involved in competitive decision-making for any individual or entity that might gain competitive advantage from using these materials; and

○ I will comply with all protective conditions established by the Commission.

/s/______

(signature of individual receiving access)

(print name of individual receiving access)

(title of individual receiving access)

(employer of individual receiving access)

(name of the participant filing the motion)

(date)

You may delete the instructional text to complete this form. This form may be filed as an attachment to the motion for access to non-public materials under 39 CFR 3011.301(b)(6).

[FR Doc. 2022-19635 Filed 9-9-22; 8:45 am]

BILLING CODE 7710-FW-P